DEPARTMENT OF TRANSPORTATION

Federal Aviation Administration

14 CFR Part 71

[Docket No. FAA 2005-20417; Airspace Docket No. 05-ANM-06]

Amendment to Class E Airspace; Wenatchee, WA

AGENCY: Federal Aviation Administration (FAA), DOT.

ACTION: Final rule.

SUMMARY: This final rule will revise the Class E airspace area at Wenatchee, WA. Additional Class E airspace is necessary to accommodate aircraft using a new Instrument Landing System (ILS) Standard Instrument Approach Procedure (SIAP) at Wenatchee/Pangborn Memorial Memorial Airport. This change is necessary for the safety of Instrument Flight Rules (IFR) aircraft executing the new SIAP at Wenatchee/Pangborn Memorial Airport, Wenatchee, WA.

EFFECTIVE DATE: 0901 UTC, January 19, 2006.

FOR FURTHER INFORMATION CONTACT: Ed Haeseker, Federal Aviation Administration, Western En Route and Oceanic Area Office, Airspace Branch, 1601 Lind Avenue, SW., Renton, WA 98055-4056; telephone (425) 227-2527.

SUPPLEMENTARY INFORMATION:

History

On May 25, 2005, the FAA proposed to amend Title 14 Code of Federal Regulations part 71 (CFR part 71) by revising Class E airspace at Wenatchee, WA (70 FR 20093). The proposed action would provide additional controlled airspace to accommodate the new ILS SIAP at Wenatchee/Pangborn Memorial Airport, Wenatchee, WA. Interested parties were invited to participate in this rulemaking proceeding by submitting written comments on the proposal to the FAA. No comments were received. Class E airspace designations are published in paragraph 6005 of FAA Order 7400.9M dated August 30, 2004, and effective September 16, 2004, which is incorporated by reference in 14 CFR part 71.1. The Class E airspace designations listed in this document will be published subsequently in that order.

The Rule

This amendment to 14 CFR part 71 revises Class E airspace at Wenatchee, WA, by providing additional controlled airspace for aircraft executing the new ILS SIAP at the Wenatchee/Pangborn Memorial Airport. This additional controlled airspace extending upward from 700 feet or more above the surface is necessary for the containment and safety of IFR aircraft executing this SIAP and transitioning to/from the en route environment.

The FAA has determined that this regulation only involves an established body of technical regulations for which frequent and routine amendments are ncessary to keep the regulations current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9N, Airspace Designations and Reporting Points, dated September 1, 2005, and effective September 16, 2005, is amended as follows:

Paragraph 6005 Class E airspace areas extending upward from 700 feet or more above the surface of the earth.

* * * * *

ANM WA E5 Wenatchee, WA [Revised]

Wenatchee/Pangborn Municipal Airport, WA

(Lat. 47°23′56″ N., long. 120°12′24″ W.)

Wenatchee VOR/DME

(Lat. 47°23′59″ N., long. 120°12′39″ W.)

That airspace extending upward from 700 feet above the surface within 4.3 miles south and 9.5 miles north of the 299° radial from the Wenatchee VOR/DME to 17 miles northwest of the VOR/DME, and within 4.3 miles southwest and 8 miles northeast of the 124° radial from the VOR/DME to 21 miles southeast of the VOR/DME, excluding that portion within the Moses Lake, Grant County, and Quincy Airport, WA, Class E airspace areas; that airspace extending upward from 1,200 feet above the surface bounded by a line beginning at: Lat. 47°36′00″ N., long. 120°43′00″ W.; to lat. 47°36′00″ N., long. 119°39′30″ W.; to lat. 47°07′00″ N., long. 119°39′30″ W.; to lat. 47°07′00″ N., long. 120°43′00″ W.; to the point of beginning. Excluding that portion within the Moses Lake, Grant County Airport, WA, Class E airspace area.

* * * * *

Issued in Seattle, Washington, on November 10, 2005.
Raul C. Treviño,
Area Director, Western En Route and Oceanic Operations.

[FR Doc. 05-23634 Filed 12-2-05; 8:45am]

BILLING CODE 4910-13-M